DEPARTMENT OF ENERGY

Federal Energy Regulatory Commission

Combined Notice of Filings #1

Take notice that the Commission received the following electric rate filings:

Docket Numbers: ER10-2394-007; ER10-2395-007; ER11-3642-021.

Applicants: Tanner Street Generation, LLC, Colorado Power Partners, BIV Generation Company, L.L.C.

Description: Notice of Change in Status of BIV Generation Company, L.L.C., et al.

Filed Date: 8/8/22.

Accession Number: 20220808-5034.

Comment Date: 5 p.m. ET 8/29/22.

Docket Numbers: ER11-4666-005; ER11-4667-005; ER11-4670-010; ER12-295-004; ER13-1368-002.

Applicants: NaturEner Wind Watch, LLC, NaturEner Rim Rock Wind Energy, LLC, NaturEner Power Watch, LLC, NaturEner Glacier Wind Energy 2, LLC, NaturEner Glacier Wind Energy 1, LLC.

Description: Notice of Non-Material Change in Status of NaturEner Glacier Wind Energy 1, LLC, et al.

Filed Date: 8/2/22.

Accession Number: 20220802-5180.

Comment Date: 5 p.m. ET 8/23/22.

Docket Numbers: ER22-2618-000.

Applicants: BIV Generation Company, L.L.C.

Description: § 205(d) Rate Filing: Market-Based Rate Tariff Revisions to be effective 8/9/2022.

Filed Date: 8/8/22.

Accession Number: 20220808-5018.

Comment Date: 5 p.m. ET 8/29/22.

Docket Numbers: ER22-2619-000.

Applicants: Colorado Power Partners.

Description: § 205(d) Rate Filing: Market-Based Rate Tariff Revisions to be effective 8/9/2022.

Filed Date: 8/8/22.

Accession Number: 20220808-5019.

Comment Date: 5 p.m. ET 8/29/22.

Docket Numbers: ER22-2620-000.

Applicants: Avista Corporation.

Description: § 205(d) Rate Filing: Avista Corp Engineering Service Agreement RS T1180 to be effective 9/7/2022.

Filed Date: 8/8/22.

Accession Number: 20220808-5064.

Comment Date: 5 p.m. ET 8/29/22.

Docket Numbers: ER22-2621-000.

Applicants: Tri-State Generation and Transmission Association, Inc.

Description: § 205(d) Rate Filing: Amendment to Tri-State WAPA-RMR Balancing Authority Service Agreement to be effective 7/7/2022.

Filed Date: 8/8/22.

Accession Number: 20220808-5112.

Comment Date: 5 p.m. ET 8/29/22.

Docket Numbers: ER22-2622-000.

Applicants: Chaparral Springs, LLC.

Description: Baseline eTariff Filing: Market-Based Rate Application to be effective 10/8/2022.

Filed Date: 8/8/22.

Accession Number: 20220808-5125.

Comment Date: 5 p.m. ET 8/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2022.
Debbie-Anne A. Reese,
Deputy Secretary.

[FR Doc. 2022-17353 Filed 8-11-22; 8:45 am]

BILLING CODE 6717-01-P